DEPARTMENT OF COMMERCE

International Trade Administration

Agency Information Collection Activities; Submission to the Office of Management and Budget (OMB) for Review and Approval; Comment Request; Procedures for Importation of Supplies for Use in Emergency Relief Work

AGENCY: International Trade Administration, Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before March 23, 2026.

ADDRESSES: Interested persons are invited to submit written comments by mail to Enforcement and Compliance Office of Communications, 14th and Constitution Avenue NW, Washington, DC 20230 or by email to ECCommunications@trade.gov or PRA@trade.gov. Please reference OMB Control Number 0625-0256 in the subject line of your comments. Do not submit Confidential Business Information or otherwise sensitive or protected information.

FOR FURTHER INFORMATION CONTACT: Requests for additional information or specific questions related to collection activities should be directed to Enforcement and Compliance Office of Communications, International Trade Administration, U.S. Department of Commerce, 14th and Constitution Avenue NW, Washington, DC 20230; telephone: 202-482-1413; email: ECCommunications@trade.gov.

SUPPLEMENTARY INFORMATION:

I. Abstract

The regulations (19 CFR 358.101 through 358.104) provide procedures for requesting the Secretary of Commerce to permit the importation of supplies, such as food, clothing, medical, surgical, and other supplies, by for-profit and not-for-profit entities for use in emergency relief work free of antidumping and countervailing duties. The regulations formally provide procedures for requesting waivers of duties on supplies for use in emergency relief work. There are no proposed changes to this information collection.

II. Method of Collection

Three copies of the request must be submitted in writing to the Secretary of Commerce, Attention: Enforcement and Compliance, Central Records Unit, Room B-8024, U.S. Department of Commerce, 1401 Constitution Avenue NW, Washington, DC 20230.

III. Data

OMB Control Number: 0625-0256.

Form Number(s): None.

Type of Review: Regular submission, extension of a current information collection.

Affected Public: Business, including for-profit and non-profit organizations.

Estimated Number of Respondents:

Estimated Time per Response: 15.

Estimated Total Annual Burden Hours: 15.

Estimated Total Annual Cost to Public: $450.

Legal Authority: 19 U.S.C. 1318(a).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2026-01041 Filed 1-20-26; 8:45 am]

BILLING CODE 3510-DS-P